DEPARTMENT OF COMMERCE

International Trade Administration

[A-821-802]

Continuation of Suspended Antidumping Duty Investigation: Uranium From the Russian Federation

AGENCY: Import Administration, International Trade Administration, Department of Commerce.

SUMMARY: As a result of the determination by the Department of Commerce (“the Department”) that termination of the Agreement Suspending the Antidumping Investigation on Uranium from the Russian Federation (“Suspension Agreement”) would likely lead to continuation or recurrence of dumping and the determination by the International Trade Commission (“ITC”) that termination of the suspended antidumping duty investigation on uranium from the Russian Federation (“Russia”) would likely lead to continuation or recurrence of material injury to an industry in the United States within a reasonably foreseeable time, the Department is publishing this notice of continuation of the Suspension Agreement on uranium from Russia.

DATES: Effective Date: March 8, 2012.

FOR FURTHER INFORMATION CONTACT: Maureen Price or Sally Gannon, Import Administration, International Trade Administration, U.S. Department of Commerce, 14th Street and Constitution Avenue NW., Washington, DC 20230; telephone (202) 482-4271 or (202) 482-0162, respectively.

SUPPLEMENTARY INFORMATION:

Background

On July 1, 2011, the ITC instituted, and the Department initiated, a sunset review of the Suspension Agreement, pursuant to section 751(c) of the Tariff Act of 1930, as amended (“the Act”). See ITC Investigation Nos. 731-TA-539-C (Third Review), Uranium from Russia Russia; Institution of a Five-Year Review Concerning the Suspended Investigation on Uranium From Russia, 76 FR 38694 (July 1, 2011) and Initiation of Five-year (Sunset) Reviews, 76 FR 38613 (July 1, 2011). As a result of its review, pursuant to sections 751(c) and 752 of the Act, the Department determined that termination of the Suspension Agreement would likely lead to a continuation or recurrence of dumping and notified the ITC of the magnitude of the margin likely to prevail should the Suspension Agreement be terminated. See Uranium From the Russian Federation; Final Results of Expedited Sunset Review of the Suspension, 76 FR 68404 (November 4, 2011).

On March 2, 2012, pursuant to section 751(c) of the Act, the ITC published its determination that termination of the suspended investigation on uranium from the Russian Federation would be likely to lead to continuation or recurrence of material injury to an industry in the United States within a reasonably foreseeable time. See Uranium from Russia, 77 FR 12880 (March 2, 2012) and USITC Publication 4307 (February 2012), entitled “Uranium From Russia, Investigation No. 731-TA-539-C (Third Review)”. Therefore, pursuant to Section 351.218(f)(4) of the Department's regulations, the Department is publishing this notice of the continuation of the Suspension Agreement.

Scope

The merchandise covered by this Suspension Agreement (Section III, “Product Coverage”) includes the following products from Russia: Natural uranium in the form of uranium ores and concentrates; natural uranium metal and natural uranium compounds; alloys, dispersions (including cermets), ceramic products, and mixtures containing natural uranium or natural uranium compounds; uranium enriched in U235 and its compounds; alloys, dispersions (including cermets), ceramic products, and mixtures containing uranium enriched in U235 or compounds of uranium enriched in U235; and any other forms of uranium within the same class or kind. Uranium ore from Russia that is milled into U3O8 and/or converted into UF6 in another country prior to direct and/or indirect importation into the United States is considered uranium from Russia and is subject to the terms of this Suspension Agreement. For purposes of this Suspension Agreement, uranium enriched in U235 or compounds of uranium enriched in U235 in Russia are covered by this Suspension Agreement, regardless of their subsequent modification or blending. Uranium enriched in U235 in another country prior to direct and/or indirect importation into the United States is not considered uranium from Russia and is not subject to the terms of this Suspension Agreement.

Continuation

As a result of the determinations by the Department and the ITC that termination of the suspended investigation would be likely to lead to continuation or recurrence, respectively, of dumping and material injury to an industry in the United States, pursuant to section 751(d)(2) of the Act, the Department hereby orders the continuation of the Suspension Agreement. The effective date of continuation will be the date of publication in the Federal Register of this Continuation Notice. Pursuant to sections 751(c)(2) of the Act, the Department intends to initiate the next five-year sunset review of this Suspension Agreement not later than February 2017.

This five-year (sunset) review and notice are in accordance with section 751(c) of the Act and published pursuant to section 777(i)(1) of the Act.

Dated: March 2, 2012.
Ronald K. Lorentzen,
Acting Assistant Secretary for Import Administration.

[FR Doc. 2012-5671 Filed 3-7-12; 8:45 am]

BILLING CODE 3510-DS-P